FEDERAL COMMUNICATIONS COMMISSION

Information Collection(s) Being Reviewed by the Federal Communications Commission, Comments Requested

AGENCY: Federal Communications Commission.

ACTION: Notice; request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before April 8, 2013. If you anticipate that you will be submitting PRA comments, but find it difficult to do so within the period of time allowed by this notice, you should advise the FCC contact listed below as soon as possible.

ADDRESSES: Submit your PRA comments to Judith B. Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION:

OMB Control Number: 3060-0856.

Title: Universal Service—Schools and Libraries Universal Service Support Program Reimbursement Forms.

Form Numbers: FCC Forms 472, 473 and 474.

Type of Review: Revision of a currently approved collection.

Respondents: Business or other for-profit, not-for-profit institutions and state, local or tribal government.

Number of Respondents and Responses: 25,925 respondents; 158,165 responses.

Estimated Time per Response: 1 hour per form.

Frequency of Response: On occasion and annual reporting requirements and third party disclosure requirement.

Obligation to Respond: Required to obtain or retain benefits. Statutory authority for this collection of information is contained in 47 U.S.C. sections 1, 4(i), 4(j), 201-205, 214, 254, 312(d), 312(f), 403 and 503(b).

Total Annual Burden: 158,165 hours.

Total Annual Cost: No cost.

Privacy Act Impact Assessment: No impacts.

Nature and Extent of Confidentiality: If the Commission requests applicants to submit information that the respondents believe is confidential, respondents may request confidential treatment of such information under section 47 CFR 0.459 of the Commission's rules.

Needs and Uses: The Commission will submit this information collection to OMB, which is a revision to a currently approved collection, to obtain a full three-year clearance from OMB. FCC Forms 472 and 474 include minor administrative revisions to improve clarity and to ensure consistency with the Commission's rules. FCC Form 473 also includes administrative revisions and three additional certifications aimed at ensuring compliance with the Commission's rules for the schools and libraries universal service support mechanism. The Commission requests a total hourly burden change for FCC Forms 472, 473 and 474 from 143,150 burden hours to 158,165 burden hours, which is an increase of 15,015 burden hours. The adjustment reflects updated information received from the Universal Service Administrative Company, the administrator of the schools and libraries universal service support program, and is based on actual participation in the program. Specifically, for the FCC Form 472, the Commission has increased the number of respondents from 15,000 to 18,000 based on the actual number of billed entity numbers for calendar year 2011. For the FCC Form 473, the Commission increased the number of respondents from 5,000 to 5,480 based on the actual number of service providers filing FCC Forms 473 in calendar year 2011. For the FCC Form 474, the Commission increased the number of respondents from 2,200 to 2,445 based on the actual number of service providers filing FCC Forms 474 in 2011. The annual burden hours and frequency of response has been updated for all three forms due to the participation changes and the availability of electronic filing.

The purpose of FCC Form 472 is to establish the process and procedure for an eligible entity to seek reimbursement from the service provider for the discounts on services paid in full. After receiving an invoice from the service provider, together with an FCC Form 472, USAC is able to verify the eligible service and approved amounts that should be reimbursed and can make the appropriate payment to the service provider. The FCC Form 472 is also used to ensure that each service provider has provided discounted services within the current funding year for which it submits an invoice to USAC and that invoices submitted from service providers for the costs of discounted eligible services do not exceed the amount that has been approved.

The purpose of FCC Form 473 is to establish that the participating service provider is eligible to participate in the E-rate program and to confirm that the invoice forms submitted by the service provide are in compliance with the Federal Communications Commission's E-rate rules. The FCC Form 473 is also used by USAC to assure that the dollars paid out by the universal service fund go to eligible providers.

The purpose of FCC Form 474 is to establish the process and procedure for a service provider to seek payment for the discounted costs of services it provided to billed entities for eligible services. After receiving an invoice from the service provider, together with an FCC Form 474, USAC is able to verify that the eligible and approved amounts can be paid. The FCC Form 474 is also used to ensure that each service provider has provided discounted services within the current funding year for which it submits an invoice to USAC and that invoices submitted from service providers for the costs of discounted eligible services do not exceed the amount that has been approved.

All of the requirements contained in this information collection are necessary to implement the congressional mandate for the schools and libraries universal service support program and reimbursement process.

Federal Communications Commission.
Marlene H. Dortch,
Secretary.

[FR Doc. 2013-02511 Filed 2-5-13; 8:45 am]

BILLING CODE 6712-01-P